SMALL BUSINESS ADMINISTRATION

13 CFR Parts 121, 125, 127, and 134

RIN 3245-AF40

The Women-Owned Small Business Federal Contract Assistance Procedures

AGENCY: Small Business Administration (SBA).

ACTION: Final rule; correction.

SUMMARY: The Small Business Administration is correcting a Final rule that appeared in the Federal Register on October 1, 2008. The Final rule amends the U.S. Small Business Administration (SBA) regulations governing small business contracting programs to set forth procedures that will govern the new Women-Owned Small Business (WOSB) Federal Contract Assistance Procedures as authorized in the Small Business Act. This notice will correct the FOR FURTHER INFORMATION CONTACT section of the rule.

DATES: Effective October 16, 2008.

FOR FURTHER INFORMATION CONTACT: Dean Koppel, Assistant Director, Policy, Planning and Research, Office of Government Contracting, (202) 205-6460.

SUPPLEMENTARY INFORMATION:

In FR Doc. E8-23138 appearing on page 56940 in the Federal Register of Wednesday, October 1, 2008 (73 FR 56940), the following correction is made:

1. On Page 56940, revise the FOR FURTHER INFORMATION CONTACT section to read as follows:

FOR FURTHER INFORMATION CONTACT: Dean Koppel, Assistant Director, Policy, Planning and Research, Office of Government Contracting, (202) 205-6460.

Calvin Jenkins,
Deputy Associate Administrator for Government Contracting and Business Development, Associate Administrator/Disaster Assistance.

[FR Doc. E8-24602 Filed 10-15-08; 8:45 am]

BILLING CODE 8025-01-P